DEPARTMENT OF COMMERCE

National Oceanic and Atmospheric Administration

[Docket No. 040113014-5064-02; I.D. 031705C]

Oceans and Human Health Initiative; External Grants Program

AGENCY: Center for Sponsored Coastal Ocean Research (CSCOR), National Centers for Coastal Ocean Science (NCCOS), National Ocean Service (NOS), National Ocean and Atmospheric Administration (NOAA), Department of Commerce.

ACTION: Notice of availability of funds.

SUMMARY: The purpose of this document is to advise the public that NOS/CSCOR is soliciting proposals for the Oceans and Human Health Initiative External Grants Program. This funding opportunity is offered as part of NOAA's new Oceans and Human Health Initiative (OHHI), established by the Oceans and Human Health Act passed by Congress in November 2004. The OHHI is a competitive suite of programs designed to enhance understanding of the connections between the oceans and human health, with the goal of providing useful research and predictive information to NOAA, public health officials, and natural resource managers. For the purposes of this announcement, “oceans” are defined as inclusive of the Great Lakes, estuaries, and the ocean.

DATES: Proposals must be received at NOAA's CSCOR office by 3 p.m. eastern time on April 26, 2005.

ADDRESSES: Applications submitted in response to this announcement are strongly encouraged to be submitted through the Grants.gov Web site. Electronic access to the full funding announcement for this program is available via the Grants.gov Web site: http://www.grants.gov. The announcement will also be available at the NOAA Web site http://www.ofa.noaa.gov/%7Eamd/SOLINDEX.HTML or by contacting the program official identified below.

Paper applications (a signed original and two copies) should be submitted to the Oceans and Human Health Initiative, Center for Sponsored Coastal Ocean Research, National Oceanic and Atmospheric Administration, 1305 East West Highway, SSMC 4, 8th floor Station 8243, Silver Spring, MD 20910.

FOR FURTHER INFORMATION CONTACT: Program Management Information: Hal Stanford, NCCOS HQ, (301) 713-3020/ext. 135, Internet: Hal.Stanford@noaa.gov. Business Management Information: Leslie McDonald, NCCOS/CSCOR Grants Administrator, (301) 713-3338/ext. 155, Internet: Leslie.Mcdonald@noaa.gov.

SUPPLEMENTARY INFORMATION:

Background

Summary Description

The OHHI is designed to enhance NOAA's capability in oceans and human health through partnerships with academia, the private sector, and other Federal, State, and local agencies. Toward that end, this funding opportunity is intended to engage the non-federal research community in research across the physical, chemical, biological, medical, public health, and social sciences on priority issues for the OHHI. The OHHI has several priority areas described below by focus questions and specific areas of interest; these can be examined individually or in combination:

1. Pathogens: The risk of human disease occurrence as a function of exposure to pathogens in marine and coastal environments (including water contact recreation and consumption of fish, shellfish, and other marine organisms).

2. Marine Biotoxins: The risk of human disease as a function of exposure to marine biotoxins in the environment, and how do the effects of specific environmental stressors (e.g., changes in habitats, nutrient enrichment, environmental pollutants, climate, extreme events, land use, etc.) affect the risk of human exposure to biotoxins.

3. Chemical Pollutants: The ecological and human health risks from contaminants in the marine and Great Lakes.

4. Seafood and Public Health: The potential for seafood to be a vector for chemical contaminants, biotoxins, and microbial pathogens to humans.

5. Sentinel and Model Species: How investigations of sentinel species (living in or dependent upon estuarine, coastal, Great Lake or oceanic ecosystems) can better inform our understanding of risks to human health or inform our understanding of ocean health as it relates directly or indirectly to changes in risk for human or public health.

6. Marine Natural Products, Pharmaceuticals, and Biomedical Research: The biomedical value of marine natural products (including, but not limited to, providing pharmaceuticals, medical devices, molecular probes, nutritional supplements, diagnostics and pigments).

All research proposals should include appropriate outreach and education components that facilitate the transfer of research findings to such user groups as public health officials and natural resource managers at local, State and Federal levels. Ideally, these user groups would be engaged early in the research process, with their documented interest in the outcome of the proposed research included in the proposal.

A non-federal partner should lead the proposal. Participation of Federal scientist(s) on the team is allowed but no Federal expenses will be covered. Applicants are encouraged to collaborate with the NOAA Oceans and Human Health Centers of Excellence http://www.ogp.noaa.gov/mpe/ohi/index.htm, the National Science Foundation (NSF)/National Institute for Environmental Health sciences (NIEHS) Centers of Excellence in Oceans and Human Health, and NOAA scientists and other Federal and non-federal researchers working on OHHI or related issues as described in this announcement. Applicants will be required to provide a plan for management and submission of data to NOAA, to participate in an annual OHHI research meeting, and to provide information for the development of an annual OHHI report required by Congress.

Electronic Access

As has been the case since October 1, 2004, applicants can access, download and submit electronic grant applications, including the full funding announcement, for NOAA Programs at the Grants.gov Web site: grants. gov. The announcement will also be available at the NOAA Web site http://www.ofa.noaa.gov/%7Eamd/SOLINDEX.HTML or by contacting the program officials identified above.

The closing date will be the same as for the paper submissions noted in this announcement. NOAA strongly recommends that you do not wait until the application deadline date to begin the application process through Grants.gov.

If Internet access is unavailable, hard copies of proposals will also be accepted—a signed original and two copies at time of submission. This includes color or high-resolution graphics, unusually sized materials, or otherwise unusual materials submitted as part of the proposal. For color graphics, submit either color originals or color copies. Facsimile transmissions and electronic mail submission of full proposals will not be accepted.

Funding Availability

Funding is contingent upon availability of Federal appropriations. This solicitation announces that funding totaling approximately $5,880 million is available to support proposed projects, which may have durations from 1-3 years. Approximately 5-20 awards are expected from this announcement. It is anticipated that the funding instruments for most of the awards will be grants; however, in some cases, if NOAA will be substantially involved in the implementation of an individual project, the funding instrument may be a cooperative agreement.

There is no guarantee that sufficient funds will be available to make awards for all qualified projects. If one incurs any costs prior to receiving an award agreement signed by an authorized NOAA official, one would do solely at one's own risk of these costs not being included under the ward.

Authority: Public Law 108-447.

CFDA: 11.478.

Eligibility

Eligible applicants are institutions of higher education, hospitals, other non-profit institutions, commercial organizations, State and local governments, and Indian tribal governments.

Federal agencies are not eligible to receive Federal assistance under this notice.

Cost Sharing Requirements: None.

Intergovernmental Review: Applications under this program are not subject to Executive Order 12372, “Intergovernmental Review of Federal Programs.”

Evaluation and Selection Procedures

Once a full application has been received by NOAA, an initial administrative review is conducted to determine compliance with requirements and completeness of the application. All proposals will be evaluated and scored individually in accordance with the assigned weights of the evaluation criteria by independent peer mail review and/or by independent peer panel review. Both Federal and non-Federal experts in the field may be used in this process. The peer mail reviewers will be individuals with expertise in the subjects addressed by particular proposals. Each mail reviewer and independent peer panel reviewer will score proposals on a scale of five to one, where scores represent respectively: Excellent (5), Very Good (4), Good (3), Fair (2), Poor (1).

The peer panel will be comprised of 10 to 20 individuals, with each individual having expertise in a separate area, so that the panel, as a whole, covers a range of scientific expertise. If the decision is made to perform a mail review, the peer review panel will use the mail reviews in discussion and evaluation of the entire slate of proposals. All proposals will be evaluated and scored individually. The peer panel shall rate the proposals using the evaluation criteria and scores provided in the notice. The individual peer panelist scores shall be averaged for each application and presented to the program officers. No consensus advice will be given by the independent peer mail review or the review panel.

The program officers will neither vote nor score proposals as part of the independent peer panel nor participate in discussion of the merits of the proposal. Those proposals receiving an average panel score of “Fair” or “Poor” will not be given further consideration, and proposers will be notified of non-selection.

Proposals rated by the panel as either “Excellent,” “Very Good,” or “Good” will be ranked according to average panel ratings, and/or by applying the project selection factors listed below. Program officers will determine the total duration of funding for each proposal and determine the amount of funds available for each proposal subject to the availability of fiscal year funds. In addition, proposals rated by the panel as either “Excellent,” “Very Good,” or “Good” that are not funded in the current fiscal period, may be considered for funding in another fiscal period without having to repeat the competitive review process.

Recommendations for funding are then forwarded to the selecting official, the Assistant Administrator (AA) of NOS, for the final funding decision. In making the final selections, the AA will award in rank order unless the proposal is justified to be selected out of rank order based on the selection factors listed below.

Investigators may be asked to modify objectives, work plans or budgets, and provide supplemental information required by the agency prior to the award. When a decision has been made (whether an award or declination), verbatim anonymous copies of reviews and summaries of review panel deliberations, if any, will be made available to the proposer upon applicant request. Declined applications will be held in the NCCOS/CSCOR or the required three years in accordance with the current retention requirements, and then destroyed.

Evaluation Criteria: Proposals will be evaluated on the basis of the following evaluation criteria at the indicated weights:

1. Importance and/or relevance and applicability of proposed project to the program goals: This ascertains whether there is intrinsic value in the proposed work and/or relevance to NOAA, Federal, regional, State, or local activities (30 percent).

2. Technical/scientific merit: This assesses whether the approach is technically sound and/or innovative, if the methods are appropriate, and whether there are clear project goals and objectives. (30 percent).

3. Overall qualifications of applicants: This ascertains whether the applicant possesses the necessary education, experience, training, facilities, and administrative resources to accomplish the project (20 percent).

4, Project costs: The Budget is evaluated to determine if it is realistic and commensurate with the project needs and time-frame (10 percent).

5. Outreach and education: NOAA assesses whether this project provides a focused and effective education and outreach strategy reading NOAA's mission to protect the Nation's natural resources. (10 percent).

Selection Factors: The merit review ratings shall provide a rank order to the Selecting Official for final funding recommendations. A program officer may first make recommendations to the Selecting Official applying the selection factors below. The Selecting Official shall award in the rank order unless the proposal is justified to be selected out of rank order based upon one or more of the following factors:

1. Availability of funding.

2. Balance/distribution of funds:

a. Geographically.

b. By type of institutions.

c. By type of partners.

d. By research areas.

e. By project types.

3. Whether this project duplicates other projects funded or considered for funding by NOAA or other Federal agencies.

4. Program priorities and policy factors set forth in sections I.A. and B. and IV.B of the Full Funding Opportunity.

5. Applicant's prior award performance.

6. Partnerships and/or Participation of targeted groups.

7. Adequacy of information necessary for NOAA to make a NEPA determination and draft necessary documentation before recommendations for funding are made to the Grants Officer.

National Endowment Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm).

Consequently, as part of the applicants' package and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems).

In addition to providing specific information that will serve as the basis for any required impact analyses, applicants may also be requested to assist NOAA in drafting of an environmental assessment if NOAA determines an assessment is required. Applicants will also be required to cooperate with NOAA in identifying and implementing feasible measures to reduce or avoid any identified adverse environmental impacts of their proposal. The failure to do so shall be grounds for the denial of an application.

Pre-Award Notification Requirements for Grants and Cooperative Agreements

The Department of Commerce Pre-Award Notification Requirements for Grants and Cooperative Agreements contained in the Federal Register notice of December 30, 2004 (69 FR 78389) are applicable to this solicitation.

Limitation of Liability

In no event will NOAA or the Department of commerce be responsible for proposal preparation costs if these programs fail to receive funding or are cancelled because of other agency priorities. Publication of this announcement does not oblige NOAA to award any specific project or to obligate any available funds. Recipients and sub recipients are subject to all Federal laws and agency policies, regulations and procedures applicable to Federal financial assistance awards.

Administrative Procedure Act/Regulatory Flexibility Act

Prior notice and an opportunity for public comment are not required by the Administrative procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared, and none has been prepared. It has been determined that this notice does not contain policies with Federalism implications as that term is defined in Executive Order 13132.

Dated: March 21, 2005.
Richard W. Spinrad,
Assistant Administrator, National Oceanic and Atmospheric Administration, National Ocean Service.

[FR Doc. 05-5834 Filed 3-23-05; 8:45 am]

BILLING CODE 3510-JS-M